DEPARTMENT OF HEALTH AND HUMAN SERVICES

National Institutes of Health

Center for Scientific Review; Amended Notice of Meeting

Notice is hereby given of a change in the meeting of the Cellular and Molecular Biology of Glia Study Section, October 13, 2022, 8 a.m. to October 14, 2022, 5:30 p.m., Lorien Hotel & Spa, 1600 King Street, Alexandria, VA 22314, which was published in the Federal Register on September 12, 2022, 87 FR 55828 Doc 2022-19646.

This meeting is being amended to change the meeting start time from 8 a.m. to 9 a.m. and the meeting location from Lorien Hotel, 1600 King Street, Alexandria, VA 22314 to Double Tree Tysons, 1960 Chain Bridge Road, McLean, VA 22101. The meeting date remains the same. The meeting is closed to the public.

Dated: September 15, 2022.
Victoria E. Townsend,
Program Analyst, Office of Federal Advisory Committee Policy.

[FR Doc. 2022-20284 Filed 9-19-22; 8:45 am]

BILLING CODE 4140-01-P